INTERNATIONAL TRADE COMMISSION

Sunshine Act Meeting

AGENCY HOLDING THE MEETING: United States International Trade Commission.

TIME AND DATE: August 22, 2000 at 11:00 a.m.

PLACE: Room 101, 500 E Street SW., Washington, DC 20436, Telephone: (202) 205-2000.

STATUS: Open to the public.

MATTERS TO BE CONSIDERED:

1. Agenda for future meeting: none.

2. Minutes.

3. Ratification List.

4. Inv. No. 731-TA-884 (Preliminary) (Anhydrous Sodium Sulfate from Canada)—briefing and vote. (The Commission is currently scheduled to transmit its determination to the Secretary of Commerce on August 24, 2000; Commissioners' opinions are currently scheduled to be transmitted to the Secretary of Commerce on August 31, 2000.)

5. Inv. No. 731-TA-696 (Review) (Pure Magnesium from China)—briefing and vote. (The Commission is currently scheduled to transmit its determination and Commissioners' opinions to the Secretary of Commerce on August 31, 2000.)

6. Outstanding action jackets: none.

In accordance with Commission policy, subject matter listed above, not disposed of at the scheduled meeting, may be carried over to the agenda of the following meeting.

Issued: August 14, 2000.
By order of the Commission.
Donna R. Koehnke,
Secretary.

[FR Doc. 00-21194 Filed 8-16-00; 2:10 pm]

BILLING CODE 7020-02-P